DEPARTMENT OF TRANSPORTATION

Federal Aviation Administration

14 CFR Part 39

[Docket No. FAA-2015-8311; Directorate Identifier 2015-CE-039-AD; Amendment 39-18356; AD 2015-26-08]

RIN 2120-AA64

Airworthiness Directives; Piper Aircraft, Inc.

AGENCY: Federal Aviation Administration (FAA), DOT.

ACTION: Final rule; request for comments.

SUMMARY: We are adopting a new airworthiness directive (AD) for certain Piper Aircraft, Inc. Model PA-44-180 and PA-44-180T airplanes. This AD requires an inspection and, if necessary, modification of the emergency gear extension cable. This AD was prompted by a report of a misrouted emergency gear extension cable. We are issuing this AD to correct the unsafe condition on these products.

DATES: This AD is effective January 20, 2016.

The Director of the Federal Register approved the incorporation by reference of a certain publication listed in this AD as of January 20, 2016.

We must receive comments on this AD by February 19, 2016.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this final rule, contact Piper Aircraft, Inc., Customer Service, 2926 Piper Drive, Vero Beach, Florida 32960; telephone: (877) 879-0275; fax: none; email: customer.service@piper.com; Internet: www.piper.com. You may review the referenced service information at the FAA, Small Airplane Directorate, 901 Locust, Kansas City, Missouri 64106. For information on the availability of this material at the FAA, call (816) 329-4148. It is also available on the Internet at http://www.regulations.gov by searching for locating Docket No. FAA-2015-4085.

Examining the AD Docket

You may examine the AD docket on the Internet at http://www.regulations.gov by searching for and locating Docket No. FAA-2015-8311; or in person at the Docket Management Facility between 9 a.m. and 5 p.m., Monday through Friday, except Federal holidays. The AD docket contains this AD, the regulatory evaluation, any comments received, and other information. The street address for the Docket Office (phone: 800-647-5527) is in the ADDRESSES section. Comments will be available in the AD docket shortly after receipt.

FOR FURTHER INFORMATION CONTACT: Hector Hernandez, Aerospace Engineer, FAA, Atlanta Aircraft Certification Office, 1701 Columbia Avenue, College Park, Georgia 30337; telephone: (404) 474-5587; fax: (404) 474-5606; email: hector.hernandez@faa.gov.

SUPPLEMENTARY INFORMATION:

Discussion

The FAA has received recent reports of misrouted emergency gear extension cables on Piper Models PA-44-180 and PA-44-180T airplanes. This condition spans many years beginning in 2007 where one of the airplanes experienced the left-side copilot rudder pedal snagging on the emergency landing gear extension cable during taxi maneuvers. Piper Modification Kit 884333 (Piper Service Bulletin No. 1188, dated April 14, 2008) provides the parts and instructions to reroute the cable away from the pedal for airplanes in service and a production change was made to duplicate the kit configuration.

In 2009, there was a quality escape on the production aircraft (after issuance of SB 1188), which was addressed with Piper Service Bulletin No. 1213, dated March 24, 2010. Recently, there has been another quality escape reported of the cable being routed incorrectly, resulting in the issuance of Piper Service Bulletin 1213A, dated October 23, 2015 to more fully address the incorrect routing of the emergency gear extension cables.

Although the incidents occurred on the ground, the airworthiness concern is the potential for this rudder restriction to occur in flight at high angles of rudder deflection.

The FAA believes that a majority of the airplanes have already incorporated Service Bulletin 1188 and Service Bulletin 1213. However, the only way to mandate its incorporation is through AD action. In addition, the FAA believes that a large percentage of the airplanes that were manufactured after SB 1213 was issued could have the emergency gear extension cable routed incorrectly because the P-clamp that secures the cable could be installed on the inboard bolt just as easily as the outboard bolt (the type design configuration).

Piper is establishing a very robust assembly/inspection procedure going forward to ensure that the quality escape issue does not reoccur. The FAA has determined that this condition can be addressed by requiring:

• The modification in Service Bulletin 1188 for all Models PA-44-180 and PA-44-180T airplanes manufactured prior to April 14, 2008 (the date of SB 1188); and

• The inspection of the emergency gear inspection cable for correct routing of all Model PA-44-180 airplanes manufactured after April 14, 2008 (the date of SB 1188) following SB 1213A, dated October 23, 2015.

This condition, if not corrected, could result in restriction of the rudder movement at high angles of rudder deflection with consequent loss of control. We are issuing this AD to correct the unsafe condition on these products.

Related Service Information Under 1 CFR Part 51

We reviewed Piper Aircraft, Inc. Service Bulletin No. 1213A, dated October 23, 2015. The service information describes procedures for inspection of the routing and security of the emergency gear extension cable and, if necessary, instructions to reroute the emergency gear extension cable. Piper considers compliance with this service bulletin mandatory.

We reviewed Piper Aircraft, Inc. Service Bulletin No. 1188, dated April 14, 2008. The service information describes procedures to reroute and restrain the emergency gear extension cable. Piper considers compliance with this service bulletin mandatory.

This service information is reasonably available because the interested parties have access to it through their normal course of business or by the means identified in the ADDRESSES section.

FAA's Determination

We are issuing this AD because we evaluated all the relevant information and determined the unsafe condition described previously is likely to exist or develop in other products of the same type design.

AD Requirements

This AD requires accomplishing the actions specified in the service information described previously.

FAA's Justification and Determination of the Effective Date

An unsafe condition exists that requires the immediate adoption of this AD. The FAA has found that the risk to the flying public justifies waiving notice and comment prior to adoption of this rule because if the emergency gear extension cable is left routed incorrectly, it could allow the copilot's left rudder pedal to become entangled with the cable, resulting in a restriction of rudder movement at high angles of rudder deflection with consequent loss of control. Therefore, we find that notice and opportunity for prior public comment are impracticable and that good cause exists for making this amendment effective in less than 30 days.

Comments Invited

This AD is a final rule that involves requirements affecting flight safety and was not preceded by notice and an opportunity for public comment. However, we invite you to send any written data, views, or arguments about this AD. Send your comments to an address listed under the ADDRESSES section. Include the docket number FAA-2015-8311 and Directorate Identifier 2015-CE-039-AD at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD affects 415 airplanes of U.S. registry.

We estimate the following costs to comply with this AD:

Estimated Costs
Action | Labor cost | Parts cost | Cost per product | Cost on U.S. operators
Inspect the emergency gear extension cable for proper routing | .5 work-hour × $85 per hour = $42.50 | Not applicable | $42.50 | (Estimated 35 airplanes) $1,487.75.
Install Piper emergency gear extension modification kit | 2 work-hours × $85 per hour = $170 | $21 | $191 | (Estimated 380 airplanes) $72,580.

We estimate the following costs to do any necessary replacements that would be required based on the either the results of the inspection or other requirements. We have no way of determining the number of aircraft that might need this replacement:

On-Condition Costs
Action | Labor cost | Parts cost | Cost per product
Reroute the emergency gear extension cable | 2 work-hours × $85 per hour = $170 | $21 | $191

According to the manufacturer, some of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. “Subtitle VII: Aviation Programs” describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2015-26-08: Amendment 39-18356; Docket No. FAA-2015-8311; Directorate Identifier 2015-CE-039-AD.

(a) Effective Date

This AD is effective January 20, 2016.

(b) Affected ADs

None.

(c) Applicability

This AD applies to Piper Aircraft, Inc. Model PA-44-180 Seminole airplanes, serial numbers (S/Ns) 44-7995001 through 44-8195026, 4495001 through 4496377, 4496379, 4496380, and 4496384 through 4496386; and Piper Aircraft, Inc. Model PA-44-180T Seminole airplanes, S/Ns 44-8107001 through 44-8207020, certificated in any category.

(d) Subject

Joint Aircraft System Component (JASC)/Air Transport Association (ATA) of America Code 2720, Rudder Control System.

(e) Unsafe Condition

This AD was prompted by a report of a misrouted emergency gear extension cable. We are issuing this AD to require an inspection and, if necessary, modification of the emergency gear extension cable. We are issuing this AD to correct the unsafe condition on these products.

(f) Compliance

Comply with paragraphs (g)(1) through (g)(2) including all subparagraph's of this AD within the compliance times specified, unless already done.

(g) Actions

(1) For Piper Model PA-44-180 Seminole airplanes serial numbers (S/N) 4496245 through 4496377, 4496379, 4496380, and 4496384 through 4496386: Within 30 days after January 20, 2016 (the effective date of this AD), inspect the emergency gear extension cable for proper routing and appropriate attachment of the cable to the rudder pedal assembly following the Part 1 instructions in Piper Aircraft, Inc. Service Bulletin (SB) No. 1213A, dated October 23, 2015.

(i) If the inspection required in paragraph (g)(1) of this AD reveals a misrouted cable, before further flight, correct the emergency gear extension cable following the Part 2 instructions in Piper Aircraft, Inc. SB No. 1213A, dated October 23, 2015.

(ii) If the inspection required in paragraph (g)(1) of this AD reveals a correct installation following the Part 1 instructions in Piper Aircraft, Inc. SB No. 1213A, dated October 23, 2015, no further action is required.

(2) For Piper Model PA-44-180 Seminole airplanes SNs 44-7995001 through 44-8195026, 4495001 through 4496244; and Piper Model PA-44-180T Seminole airplanes, SNs 44-8107001 through 44-8207020: Within 30 days after January 20, 2016 (the effective date of this AD), install the Piper emergency gear extension cable modification kit, part number 88433-002, following the instructions in Piper Aircraft, Inc. SB No. 1188, dated April 14, 2008.

(h) Alternative Methods of Compliance (AMOCs)

(1) The Manager, Atlanta ACO, FAA, has the authority to approve AMOCs for this AD, if requested using the procedures found in 14 CFR 39.19. In accordance with 14 CFR 39.19, send your request to your principal inspector or local Flight Standards District Office, as appropriate. If sending information directly to the manager of the ACO, send it to the attention of the person identified in paragraph (k) of this AD.

(2) Before using any approved AMOC, notify your appropriate principal inspector, or lacking a principal inspector, the manager of the local flight standards district office/certificate holding district office.

(i) Related Information

For more information about this AD, contact Hector Hernandez, Aerospace Engineer, FAA, Atlanta Aircraft Certification Office, 1701 Columbia Avenue, College Park, Georgia 30337; telephone: (404) 474-5587; fax: (404) 474-5606; email: hector.hernandez@faa.gov.

(j) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Piper Aircraft, Inc. Service Bulletin No. 1188, dated April 14, 2008.

(ii) Piper Aircraft, Inc. Service Bulletin No. 1213A, dated October 23, 2015.

(3) For Piper Aircraft, Inc. service information identified in this AD, contact Piper Aircraft, Inc., Customer Service, 2926 Piper Drive, Vero Beach, Florida 32960; telephone: (877) 879-0275; fax: none; email: customer.service@piper.com; Internet: www.piper.com.

(4) You may review the referenced service information at the FAA, Small Airplane Directorate, 901 Locust, Kansas City, Missouri 64106. For information on the availability of this material at the FAA, call (816) 329-4148.

(5) You may view this service information that is incorporated by reference at the National Archives and Records Administration (NARA). For information on the availability of this material at NARA, call 202-741-6030, or go to: http://www.archives.gov/federal-register/cfr/ibr-locations.html.

Issued in Kansas City, Missouri, on December 23, 2015.
Pat Mullen,
Acting Manager, Small Airplane Directorate, Aircraft Certification Service.

[FR Doc. 2015-32907 Filed 1-4-16; 8:45 am]

BILLING CODE 4910-13-P